DEPARTMENT OF HEALTH AND HUMAN SERVICES

Request for Information: Draft HHS 2023 Framework To Support and Accelerate Smoking Cessation

AGENCY: Office of the Assistant Secretary for Health (OASH), Office of the Secretary, Department of Health and Human Services (HHS).

ACTION: Notice of request for information.

SUMMARY: The Department of Health and Human Services (HHS or Department) is issuing this request for information (RFI) to receive input from the public on the Draft HHS 2023 Framework to Support and Accelerate Smoking Cessation to guide the Department's efforts to sustain and strengthen existing programs and drive further progress toward smoking cessation, with an emphasis on serving populations and communities disproportionately impacted by smoking-related morbidity and mortality.

DATES: To be assured consideration, comments must be received at the email address provided below, no later than midnight Eastern Time (ET) on July 30, 2023. HHS will not reply individually to responders but will consider all comments submitted by the deadline. Please do not provide confidential information as comments may be published or otherwise used for agency purposes.

ADDRESSES: Please submit all comments via email to HHSSmokingCessationFramework2023@hhs.gov as a Word document, Portable Document Format (PDF), or in the body of an email. Please include “Request for Information: Draft HHS 2023 Framework to Support and Accelerate Smoking Cessation” in the subject line of the email message.

FOR FURTHER INFORMATION CONTACT: Please submit questions for further information to Sarah Boateng, Principal Deputy Assistant Secretary for Health. Email: sarah.boateng@hhs.gov at (202) 205-0725.

SUPPLEMENTARY INFORMATION: The mission of HHS is to enhance the health and well-being of all Americans, by providing for effective health and human services and by fostering sound, sustained advances in the sciences underlying medicine, public health, and social services.

On February 22, 2022, President Joe Biden and First Lady Jill Biden reignited the Cancer Moonshot, setting an ambitious, achievable goal: to reduce the death rate from cancer by at least 50 percent over the next 25 years and improve the experience of people and families living with and surviving cancer, ultimately ending cancer as we know it. Additionally, on January 20, 2021, President Biden signed Executive Order 13985, Advancing Racial Equity and Support for Underserved Communities Through the Federal Government, which directed the Department to make achieving health equity part of its mission by developing programs, policies, and activities to address the disproportionately high and adverse health disparities in underserved communities. Then on February 16, 2023, President Biden signed Executive Order 14091, Further Advancing Racial Equity and Support for Underserved Communities Through the Federal Government. This second Executive Order reaffirmed the Administration's commitment to health equity by extending and strengthening equity-advancing requirements for agencies.

To support the executive order initiatives, and to pursue the Administration's priorities for advancing health equity and driving down cancer deaths, the Office of the Assistant Secretary for Health (OASH) is leading the development of a framework to support and accelerate smoking cessation. The Draft HHS 2023 Framework to Support and Accelerate Smoking Cessation (the Framework) will provide direction to enhance collaboration and coordination across HHS, and with Federal and non-Federal stakeholders, drive further progress toward smoking cessation and delivering equitable outcomes for all persons in America. The draft Framework was developed with valued input from subject matter experts across HHS Operating Divisions. The Framework aims to accelerate smoking cessation and reduce smoking-related health disparities by building on current activities and collaborations across the Department, including work guided by the HHS Tobacco Control Strategic Action Plan developed in 2010.

The scope is focused on cessation of the use of commercial cigarettes, cigars, and cigarillos, for people of all ages across the lifespan. The Department also recognizes the importance of tobacco use prevention and cessation of other tobacco products. These issues as well as those related to e-cigarettes are topics that are out of scope for this phase but will be addressed in a later phase of this effort.

The purpose of this request for information (RFI) is to seek public comment on the Draft 2023 Framework to Support and Accelerate Smoking Cessation. Please see the Draft Framework below, followed by an RFI in the form of questions to the public.

Draft U.S. Department of Health and Human Services 2023 Framework To Support and Accelerate Smoking Cessation

Background

Cigarette smoking is the leading cause of preventable disease, disability, and death in the United States, including about 30% of all cancer deaths. Enormous progress has been made over the last 60 years in driving down rates of cigarette smoking. In 2021, 11.5% of U.S. adults smoked cigarettes, down from an all-time high of 42%, and two-thirds (66.5%) of all adults who ever smoked cigarettes have quit. Despite this progress, cigarette smoking still claims approximately 480,000 American lives every year.

Furthermore, the gains that have been made over the past several decades have not occurred equally across the population, leaving behind many of those who have the least resources and who face the greatest barriers to quitting. Encouraging and assisting every person in America to quit smoking is critical to ensuring a healthier future for all people in America and to helping achieve the Cancer Moonshot goal of reducing cancer death rates by at least half over the next 25 years, a central part of President Biden's Unity Agenda, issues areas where all of us can come together and make additional progress for the American people. In fact, ahead of the President's State of the Union, the Administration announced that helping Americans avoid smoking in the first place and supporting Americans who want to quit would be a major priority for the President's Cancer Moonshot this year.

Vision

The Framework vision is to ensure that every person in America has access to comprehensive, evidence-based cessation treatment and can benefit from HHS cessation supports, programs, and policies.

Framework Goals

The Framework is organized around the six goals that serve as a foundation for long-standing HHS efforts to support and promote cessation. Moving forward, these goals will guide future HHS cessation actions, building on the work that is already underway to achieve the Framework vision.

The Framework identifies six goals.

1. Eliminate smoking- and cessation-related disparities

2. Increase awareness and knowledge related to smoking and cessation

3. Strengthen and sustain cessation services and supports

4. Increase access to and coverage of comprehensive, evidence-based cessation treatment

5. Expand surveillance of smoking and cessation behaviors and strengthen performance measurement and evaluation

6. Promote ongoing and innovative research to support and accelerate smoking cessation

Cross-Cutting Principles

The Framework is underpinned by cross-cutting guiding principles that apply across all six goals. These cross-cutting principles reflect the Department's commitment to leveraging the best available smoking cessation science, programs, and policies to reach diverse populations and all communities across America.

• Advancing Equity: Employ culturallycompetent strategies that support and accelerate cessation, focusing especially on groups with high smoking prevalence and/or persistent cessation-related disparities

• Community Engagement: Ensure that the public, especially communities that are disproportionately affected by smoking, are engaged in the development and implementation of cessation programs, policies, and infrastructure

• Coordination, Collaboration, and Integration: Promote coordination, collaboration, and integration of programs and activities across HHS to support the implementation and sustainability of effective cessation practices, programs, and policies

• Evidence-Based Approaches: Leverage the strongest evidence base to guide actions for cessation treatment and messaging, while identifying research gaps and needs

Broad Strategies

Each of the six goals are supported by broad strategies to drive progress toward smoking cessation at the population and individual levels. HHS will advance the Framework goals through coordinated strategies that leverage the full capacity and resources of the Department, including continued support for ongoing activities that serve these goals.

Goal 1: Eliminate Smoking- and Cessation-Related Disparities

Addressing disparities in smoking prevalence rates and cessation outcomes is essential to achieving equitable progress in reducing smoking-related morbidity and mortality. A commitment to health equity involves understanding health disparities related to smoking and the factors that cause these disparities. Through the Framework, HHS seeks to execute broad strategies that will reach all communities and address unique barriers to cessation experienced by disparately affected groups.

Examples of broad strategies that advance this goal include:

• Promoting access to cessation resources that are culturally competent and use consumers' preferred languages

• Engaging community partners in promotion and outreach to key population groups, focusing especially on groups with high smoking prevalence and/or persistent cessation-related disparities

• Building capacity for cessation services and supports in care settings serving key populations

• Regulating the manufacturing, marketing, and distribution of tobacco products to protect public health

Goal 2: Increase Awareness and Knowledge Related to Smoking and Cessation

Raising knowledge and awareness about the harmful effects of smoking and evidence-based cessation interventions drives attempts to quit and promotes treatment utilization. Through the Framework, HHS seeks to execute broad strategies that will increase awareness and knowledge related to smoking and cessation.

Examples of broad strategies that advance this goal include:

• Expanding public education campaigns to increase knowledge about the harms of smoking and the availability of cessation services

• Coordinating with Federal and non-Federal entities to share cessation communication and education resources in order to amplify their reach

• Promoting covered cessation treatments to insurance beneficiaries and their health care providers

Goal 3: Strengthen and Sustain Cessation Services and Supports

To help people quit smoking, it is important to have strong cessation supports in place with sustainable capacity and infrastructure. Through the Framework, HHS seeks to execute broad strategies that will support implementation of services that are evidence-based, optimally effective, engaging, and sustainable.

Examples of broad strategies that advance this goal include:

• Strengthening and sustaining State and local cessation programs and activities

• Working to ensure a baseline level of service for State tobacco Quitlines

• Promoting connectivity and interoperability among HHS programs and partnerships with other Federal and non-Federal entities

Goal 4: Increase Access to and Coverage of Comprehensive High-Quality Cessation Treatment

Ensuring that high-quality, comprehensive cessation support is accessible and affordable for all people in America is essential for advancing smoking cessation. The Framework seeks to execute broad strategies that will increase access to cessation treatment, especially in settings serving population groups that experience barriers to cessation and cessation-related disparities.

Examples of broad strategies that advance this goal include:

• Working with health insurers, payers, States, health care facilities, community providers, and other stakeholders to remove coverage barriers to treatment

• Ensuring that smoking assessment and treatment delivery and referral are integrated into healthcare systems and connected to care for other health conditions

• Supporting, reimbursing, and evaluating innovative healthcare delivery methods that support cessation and provide long-term support to prevent and address relapse

• Promoting patient-centered approaches and ensuring that cessation protocols are evidence-based

Goal 5: Expand Surveillance of Smoking and Cessation Behaviors and Strengthen Performance Measurement and Evaluation

Expanding capacity for surveillance and evaluation is critical for measuring progress, understanding barriers to quitting success, and rewarding effective service delivery. Through the Framework, HHS seeks to execute strategies that will support the measurement, monitoring, and tracking of patterns, trends, and progress.

Examples of broad strategies that advance this goal include:

• Ensuring that surveillance systems can capture cessation-related disparities and diverse tobacco use patterns

• Promoting development and use of common data elements

• Supporting program evaluation to ensure that high quality smoking cessation and related services are provided

Goal 6: Promote Ongoing and Innovative Research To Support and Accelerate Smoking Cessation

A robust evidence base exists to inform smoking cessation programs, policies, and treatments. At the same time, it is essential to identify what gaps exist in our current understanding of what works to effectively address smoking cessation. Through the Framework, HHS seeks to execute broad strategies that will support research efforts to continually build the evidence base in this area.

Examples of broad strategies that advance this goal include:

• Increasing understanding of how to optimize current smoking cessation interventions to maximize reach and treatment engagement and effectiveness, particularly among populations disparately impacted by smoking

• Supporting research on new cessation interventions

• Promoting sharing of data and resources generated by federally-funded research

• Identifying research gaps

HHS is requesting information from the public regarding five questions.

1. Are the proposed goals appropriate and relevant for addressing the needs of populations disparately affected by smoking?

2. Do the broad strategies capture the key components and aspects needed to drive progress toward increasing cessation?

3. Are there additional goals or broad strategies that should be included in the Framework?

4. What targeted actions should HHS (Department-wide or within a specific HHS agency) take to advance these goals and strategies?

5. What metrics and benchmarks should be included to ensure that the Framework drives progress?

HHS invites all potentially interested parties—individuals, associations, governmental and non-governmental organizations, academic institutions, and private sector entities—to respond. HHS is interested in the questions listed above, but respondents are welcome to address as many or as few as they choose and may provide additional relevant information that is within the scope of the Framework. To facilitate review of the responses, please reference the question number in your response.

This RFI is for planning purposes only and should not be construed as a policy, solicitation for applications, or as an obligation on the part of HHS to provide support for any ideas in response to it. HHS will use the information submitted in response to this RFI at its discretion and will not provide comments to any respondent's submission. However, responses to this RFI may be reflected in future initiatives, solicitations, or policies. Respondents are advised that HHS is under no obligation to acknowledge receipt of the information received or provide feedback to respondents with respect to any information submitted.

Sarah N. Boateng,
Principal Deputy Assistant Secretary for Health, Office of the Assistant Secretary for Health.

[FR Doc. 2023-13928 Filed 6-29-23; 8:45 am]

BILLING CODE 4150-28-P